NATIONAL AERONAUTICS AND SPACE ADMINISTRATION

[Notice 03-082]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTFTG).

DATES: Thursday, August 7, 2003, 11:30 a.m. to 2 p.m.

ADDRESSES: John F. Kennedy Space Center, Visitors Complex, Debus Center, Highway 405, Kennedy Space Center, FL 32899, (321)-867-2468.

FOR FURTHER INFORMATION CONTACT: Mr. David M. Lengyel, Executive Secretary, National Aeronautics and Space Administration, Houston, TX 77058, (281) 283-7581.

SUPPLEMENTARY INFORMATION: The meeting will be open to the public up to the seating capacity of the room. Return to Flight Task Group is co-chaired by Lieutenant General Thomas Stafford, USAF, (Retired) and Mr. Richard O. Covey, using expertise from the Stafford IOR Advisory Expert Council—Task Force, personnel from the aerospace industry, federal government, academia, and the military. The Task Group will periodically report their assessments to the agency, and deliver a written report to the NASA Administrator one month before the return to flight of the Space Shuttle launch (STS-114). The agenda for the meeting is as follows:

—Task Group Charter/Panel Charters.

—Report Writing (Interim and Final Report Discussion).

—Draft Johnson Space Center Agenda.

Prior to the public meeting, the members of the Task Group will be receiving briefings concerning administrative matters, such as Federal Advisory Committee Act, Government personnel, travel and ethics issues, background briefings relative to their tasks and a tour of relevant facilities at the John F. Kennedy Space Center. It is imperative that the meeting be held on these dates to accommodate the scheduling priorities of the key participants. Visitors will be requested to sign a visitor's register.

June W. Edwards,
Advisory Committee Management Officer, National Aeronautics and Space Administration.

[FR Doc. 03-18758 Filed 7-22-03; 8:45 am]

BILLING CODE 7510-01-P